DEPARTMENT OF TRANSPORTATION

Federal Aviation Administration

14 CFR Part 39

[Docket No. FAA-2006-24979; Directorate Identifier 2006-NM-014-AD; Amendment 39-14738; AD 2006-17-17]

RIN 2120-AA64

Airworthiness Directives; Bombardier Model DHC-8-100, DHC-8-200, DHC-8-300, and DHC-8-400 Series Airplanes

AGENCY: Federal Aviation Administration (FAA), Department of Transportation (DOT).

ACTION: Final rule.

SUMMARY: The FAA is adopting a new airworthiness directive (AD) for certain Bombardier Model DHC-8-100, DHC-8-200, DHC-8-300, and DHC-8-400 series airplanes. This AD requires inspecting the left and right control column torque tube assemblies to determine the type of rivets installed and replacing incorrect or indeterminate type rivets with the correct type rivets. This AD results from a report that incorrect rivets having lower than required strength were installed on the control column torque tube during production. We are issuing this AD to prevent shear failure of control column torque tube rivets, which could cause unexpected decoupling of the elevators and large unwanted deflection of the free elevator, and consequent reduced controllability of the airplane.

DATES: This AD becomes effective September 29, 2006.

The Director of the Federal Register approved the incorporation by reference of certain publications listed in the AD as of September 29, 2006.

ADDRESSES: You may examine the AD docket on the Internet at http://dms.dot.gov or in person at the Docket Management Facility, U.S. Department of Transportation, 400 Seventh Street, SW., Nassif Building, Room PL-401, Washington, DC.

Contact Bombardier, Inc., Bombardier Regional Aircraft Division, 123 Garratt Boulevard, Downsview, Ontario M3K 1Y5, Canada, for service information identified in this AD.

FOR FURTHER INFORMATION CONTACT: Richard Beckwith, Aerospace Engineer, Airframe and Propulsion Branch, ANE-171, FAA, New York Aircraft Certification Office, 1600 Stewart Avenue, suite 410, Westbury, New York 11590; telephone (516) 228-7302; fax (516) 794-5531.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Bombardier Model DHC-8-100, DHC-8-200, DHC-8-300, and DHC-8-400 series airplanes. That NPRM was published in the Federal Register on June 8, 2006 (71 FR 33270). That NPRM proposed to require inspecting the left and right control column torque tube assemblies to determine the type of rivets installed and replacing incorrect or indeterminate type rivets with the correct type rivets.

Comments

We provided the public the opportunity to participate in the development of this AD. We received no comments on the NPRM or on the determination of the cost to the public.

Conclusion

We have carefully reviewed the available data and determined that air safety and the public interest require adopting the AD as proposed.

Costs of Compliance

The following table provides the estimated costs for U.S. operators to comply with this AD.

Estimated Costs
Action | Work hours | Average labor rate per hour | Parts | Cost per airplane | Number of U.S.-registered airplanes | Fleet cost
Inspection for rivet type | 1 | $80 | $0 | $80 | 162 | $12,960.
Rivet replacement, if necessary | 16 | 80 | 50 | 1,330 | 162 | A maximum of $215,460.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-17-17 Bombardier, INC. (Formerly de Havilland, Inc.): Amendment 39-14738. Docket No. FAA-2006-24979; Directorate Identifier 2006-NM-014-AD.

Effective Date

(a) This AD becomes effective September 29, 2006.

Affected ADs

(b) None.

Applicability

(c) This AD applies to the Bombardier airplanes identified in Table 1 of this AD, certified in any category.

Table 1.—Applicability
Bombardier airplane model— | Affected serial numbers (S/Ns)—
(1) DHC-8-102, DHC-8-103, DHC-8-106, DHC-8-201, DHC-8-202, DHC-8-301, DHC-8-311, DHC-8-314, and DHC-8-315 airplanes | 528 through 602 inclusive, and 606.
(2) DHC-8-400, DHC-8-401, and DHC-8-402 airplanes | 4003, 4004, 4006, 4008 through 4080 inclusive, and 4082.

Unsafe Condition

(d) This AD results from a report that incorrect rivets having lower than required strength were installed on the control column torque tube during production. We are issuing this AD to prevent shear failure of rivets in the control column torque tube, which could cause unexpected decoupling of the elevators and large unwanted deflection of the free elevator, and consequent reduced controllability of the airplane.

Compliance

(e) You are responsible for having the actions required by this AD performed within the compliance times specified, unless the actions have already been done.

Inspection and Replacement of Incorrect Rivets

(f) At the applicable times specified in Table 2 of this AD: Do the applicable actions in accordance with the applicable service bulletin identified in Table 2 of this AD. If all rivets identified during the inspection specified in paragraph (f)(1)(i) or (f)(2)(i) of this AD, as applicable, are of the correct type (DD or DN rivets), no further action is required by this AD.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Table 2.—Inspection and Replacement of Incorrect Rivets
Model— | Compliance time— | Action— | In accordance with—
(1) Model DHC-8-102, DHC-8-103, DHC-8-106, DHC-8-201, DHC-8-202, DHC-8-301, DHC-8-311, DHC-8-314, and DHC-8-315 airplanes | (i) Within 5,500 flight hours after the effective date of this AD | Do a general visual inspection of the left and right control column torque tube assemblies to determine the types of rivets installed | Part A of the Accomplishment Instructions of Bombardier Service Bulletin 8-27-104, dated October 26, 2004.
| (ii) Before further flight | Replace any rivet of an incorrect type (AD rivets) or of a type that cannot be determined with correct type rivets (DD or DN rivets) | Part B of the Accomplishment Instructions of Bombardier Service Bulletin 8-27-104, dated October 26, 2004.
(2) Model DHC-8-400, DHC-8-401, and DHC-8-402 airplanes | (i) Within 5,500 flight hours after the effective date of the AD | Do a general visual inspection of the left and right control column torque tube assemblies to determine the type of rivets installed | Part A of the Accomplishment Instructions of Bombardier Service Bulletin 84-27-24, Revision ‘A,’ dated September 28, 2005.
| (ii) Before further flight | Replace any rivet of an incorrect type (AD rivets) or of a type that cannot be determined with correct type rivets (DD or DN rivets) | Part B of the Accomplishment Instructions of Bombardier Service Bulletin 84-27-24, Revision ‘A,’ dated September 28, 2005.

Actions Accomplished According to Previous Issue of Service Bulletin

(g) For Model DHC-8-400, DHC-8-401, and DHC-8-402 airplanes: Inspections and rivet replacements done before the effective date of this AD in accordance with Bombardier Service Bulletin 84-27-24, dated September 20, 2004, are considered acceptable for compliance with the corresponding actions specified in this AD.

Alternative Methods of Compliance (AMOCs)

(h)(1) The Manager, New York Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) Canadian airworthiness directive CF-2005-39, dated November 21, 2005, also addresses the subject of this AD.

Material Incorporated by Reference

(j) You must use Bombardier Service Bulletin 8-27-104, dated October 26, 2004; or Bombardier Service Bulletin 84-27-24, Revision ‘A,’ dated September 28, 2005; as applicable, to perform the actions that are required by this AD, unless the AD specifies otherwise. The Director of the Federal Register approved the incorporation by reference of these documents in accordance with 5 U.S.C. 552(a) and 1 CFR part 51. Contact Bombardier, Inc., Bombardier Regional Aircraft Division, 123 Garratt Boulevard, Downsview, Ontario M3K 1Y5, Canada, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html

Issued in Renton, Washington, on August 16, 2006.
Kalene C. Yanamura,
Acting Manager, Transport Airplane Directorate, Aircraft Certification Service.

[FR Doc. E6-13966 Filed 8-24-06; 8:45 am]

BILLING CODE 4910-13-P